DEPARTMENT OF ENERGY

Federal Energy Regulatory Commission

[Docket No. PL09-3-000]

Control and Affiliation for Purposes of the Commission's Market-Based Rate Requirements Under Section 205 of the Federal Power Act and the Requirements of Section 203 of the Federal Power Act; Notice of Workshop

November 12, 2008.

Take notice that on December 3, 2008, Commission staff will convene a workshop to consider issues regarding control and affiliation for purposes of the Commission's market-based rate requirements under section 205 of the Federal Power Act (FPA) and the requirements of section 203 of the FPA.¹ The workshop will be held from 9 a.m. to 12 p.m. (EST), in Hearing Room 7 at the Federal Energy Regulatory Commission, 888 First Street, NE., Washington, DC 20426.

¹ This workshop is being held in accordance with the Commission's order Obtaining Guidance on Regulatory Requirements, 123 FERC ¶ 61,157 (2008).

The purpose of this notice is to advise the public of the date and time of the workshop. Subsequent notices will be issued regarding the details of the workshop.

All interested persons are invited. Those interested in participating are asked to register no later than November 28, 2008. To register or for additional information, please contact Christina Hayes at (202) 502-6194 or at christina.hayes@ferc.gov.

Commission conferences are accessible under section 508 of the Rehabilitation Act of 1973. For accessibility accommodations, please send an e-mail to accessibility@ferc.gov or call toll free 1-866-208-3372 (voice) or (202) 208-1659 (TTY), or send a FAX to (202) 208-2106 with the required accommodations.

Kimberly D. Bose,
Secretary.

[FR Doc. E8-27365 Filed 11-18-08; 8:45 am]

BILLING CODE 6717-01-P